ENVIRONMENTAL PROTECTION AGENCY

[FRL-9230-7]

Science Advisory Board Staff Office; Request for Nominations of Experts for the Review of a Draft Microbial Risk Assessment Guideline: Pathogenic Microorganisms in Food and Water

AGENCY: Environmental Protection Agency (EPA).

ACTION: Notice.

SUMMARY: The EPA Science Advisory Board (SAB) Staff Office is requesting public nominations for technical experts to form an SAB panel to review a draft interagency Microbial Risk Assessment Guideline: Pathogenic Microorganisms in Food and Water (the Guideline) which provides a flexible framework for conducting microbial risk assessment that may be applied by different agencies with various statutory authorities.

DATES: Nominations should be submitted by December 15, 2010 per instructions below.

FOR FURTHER INFORMATION CONTACT: Any member of the public wishing further information regarding this Notice and Request for Nominations may contact Mr. Thomas Carpenter, Designated Federal Officer (DFO), SAB Staff Office, by telephone/voice mail at (202) 564-4885, by fax at (202) 565-2098, or via e-mail at carpenter.thomas@epa.gov. General information concerning the EPA Science Advisory Board can be found at the EPA SAB Web site at http://www.epa.gov/sab.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

EPA and the U.S. Department of Agriculture (USDA) are leading the Interagency Microbial Risk Assessment (MRA) Guideline Workgroup to develop a Guideline to improve transparency in how Federal agencies conduct MRA and promote consistency in terms of approaches and methods. The Guideline is intended to be a resource for U.S. Federal Government risk assessors, their contractors, and the general risk assessment community.

The draft Guideline is focused on infectious diseases associated with the gastrointestinal tract and fecal/oral transmission through food and water but has utility to a broader variety of scenarios. It applies to human pathogens including viruses, bacteria, protozoa, and fungi. In addition to issues in common with chemical risk assessment the document addresses issues that are unique to MRA such as secondary transmission, variation in immune status, and fluctuation in microbial populations.

The EPA Office of the Science Advisor's Risk Assessment Forum has requested the SAB to review the draft Microbial Risk Assessment Guideline: Pathogenic Microorganisms in Food and Water to assess the appropriateness of the Guideline to provide technical guidance and its efficacy as a resource in conducting MRA. The SAB Staff Office will consider nominations received in response to this FR Notice, members of the Science Advisory Board, and the USDA National Advisory Committee on Microbiological Criteria for Foods (NACMCF) to form an expert panel under the auspices of the SAB to review the draft MRA Guideline.

Request for Nominations: The SAB Staff Office is seeking nominations of nationally and internationally recognized scientists and risk assessors with demonstrated expertise and research or management experience in one or more of the following areas: Microbiology, infectious disease, food safety, exposure assessment, biostatistics, public health, risk assessment and risk communication. We are particularly interested in scientists and risk assessors with direct experience in the design, management, and implementation of public health protection programs that have included development of approaches to assess exposure reduction to food- and water-borne pathogens.

Availability of the review materials: Information on the Guideline is available on the EPA Risk Assessment Forum Web site http://www.epa.gov/raf/microbial.htm. For questions concerning the MRA Guideline, please contact Dr. Kathryn Gallagher, Executive Director, Risk Assessment Forum, Office of the Science Advisor US EPA, Mail Code, 8105R, 1200 Pennsylvania Ave, NW., Washington, DC 20460, (phone) 202-564-1398 (fax) 202-564-2070 or at gallagher.kathryn@epa.gov.

Process and Deadline for Submitting Nominations: Any interested person or organization may nominate qualified individuals in the areas of expertise described above for possible service on this expert Panel. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested below.

EPA's SAB Staff Office requests contact information about the person making the nomination; contact information about the nominee; the disciplinary and specific areas of expertise of the nominee; the nominee's curriculum vita; sources of recent grant and/or contract support; and a biographical sketch of the nominee indicating current position, educational background, research activities, and recent service on other national advisory committees or national professional organizations.

Persons having questions about the nomination procedures, or who are unable to submit nominations through the SAB Web site, should contact Mr. Thomas Carpenter. DFO, as indicated above in this notice. Nominations should be submitted in time to arrive no later than December 15, 2010. EPA values and welcomes diversity. In an effort to obtain nominations of diverse candidates, EPA encourages nominations of women and men of all racial and ethnic groups.

The EPA SAB Staff Office will acknowledge receipt of nominations. The names and bio-sketches of qualified nominees identified by respondents to this Federal Register notice, and additional experts identified by the SAB Staff, will be posted in a List of Candidates on the SAB Web site at http://www.epa.gov/sab. Public comments on this List of Candidates will be accepted for 21 calendar days. The public will be requested to provide relevant information or other documentation on nominees that the SAB Staff Office should consider in evaluating candidates.

For the EPA SAB Staff Office, a review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, (f) for the Panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: November 16, 2010.
Anthony F. Maciorowski,
Deputy Director, EPA Science Advisory Board Staff Office.

[FR Doc. 2010-29637 Filed 11-23-10; 8:45 am]

BILLING CODE 6560-50-P